DEPARTMENT OF HEALTH AND HUMAN SERVICES

National Institutes of Health

Proposed Collection; 60-Day Comment Request; NIMH Office of National Autism Coordination (ONAC) Portfolio Analysis

AGENCY: National Institutes of Health, HHS.

ACTION: Notice.

SUMMARY: In compliance with the requirement of the Paperwork Reduction Act of 1995 to provide opportunity for public comment on proposed data collection projects, the National Institutes of Health (NIH) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Andrew Hooper, NIMH Project Clearance Liaison, Science Policy and Evaluation Branch, Office of Science Policy, Planning and Communications, NIMH, Neuroscience Center, 6001 Executive Boulevard, MSC 9667, Bethesda, Maryland 20892, call (301) 480-8433, or email your request, including your mailing address, to nimhprapubliccomments@mail.nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: NIMH Office of National Autism Coordination (ONAC) Portfolio Analysis, NIMH, 0925-0682, expiration date 2/28/2026, REVISION, National Institute of Mental Health (NIMH), National Institutes of Health (NIH).

Need and Use of Information Collection: This is a requested revision of a currently approved request (NIMH Office of Autism Research Coordination (OARC) Portfolio Analysis, 0925-0682, expiration date 2/28/2026), where the National Institute of Mental Health (NIMH) Office of National Autism Coordination (ONAC), on behalf of the Interagency Autism Coordinating Committee (IACC), plans to continue conducting comprehensive portfolio analyses of major autism spectrum disorder (ASD) research funders. The purpose of the ASD research portfolio analysis is to collect research funding data from U.S. and international ASD research funders, to assist the Interagency Autism Coordinating Committee (IACC) in fulfilling the requirements of the Autism Collaboration, Accountability, Research, Education, and Support (CARES) Act of 2024, and to inform the committee and interested stakeholders of the funding landscape and current directions for ASD research. Specifically, these analyses will continue to examine the extent to which current funding and research topics align with the IACC Strategic Plan for Autism Research, Services, and Policy. The findings will help guide future funding priorities by outlining current gaps and opportunities in ASD research as well as serving to highlight annual research activities and progress.

This revision request includes the following actions: updating all previous references to the “Office of Autism Research Coordination (OARC)” to instead refer to the “Office of National Autism Coordination (ONAC)”; updating all previous references to the “Autism CARES Act of 2019” to instead refer to the “Autism CARES Act of 2024”, which was signed into law in December 2024 and reauthorizes the IACC through September 2029; updating all previous references to IACC Strategic Plan “Objectives” to instead refer to “Recommendations” after the publication of the 2021-2023 IACC Strategic Plan; updating descriptions of how results of the portfolio analyses will be presented and made publicly available upon request; updating the total burden hours due to an increase in the number of U.S. respondents and an increase in the number of projects reported by these respondents; updating the annualized total cost to the federal government due to inflation and staffing changes; and, updating information collection materials and background documents to reflect the funders to be included in future autism research portfolio analyses and to allow for project funding data for two years to be provided in one spreadsheet.

OMB approval is requested for 3 years. There are no costs to respondents other than their time. The total estimated annualized burden hours are 474.

Estimated Annualized Burden Hours
Type of respondents | Number of respondents | Number of projects per respondent | Average time per response (in hours) | Total burden hours
U.S. Federal | 40 | 24 | 15/60 | 240
U.S. Private | 18 | 47 | 15/60 | 212
International Government | 1 | 61 | 15/60 | 15
International Private | 2 | 13 | 15/60 | 7
Total | 61 | 1,893 |  | 474

Dated: November 18, 2025.
Andrew A. Hooper,
Project Clearance Liaison, National Institute of Mental Health, National Institutes of Health.

[FR Doc. 2025-20593 Filed 11-20-25; 8:45 am]

BILLING CODE 4140-01-P